DEPARTMENT OF COMMERCE

National Oceanic and Atmospheric Administration

[RTID 0648-XB524]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Outreach & Education Technical Committee.

DATES: The meeting will convene on Monday, November 15, 2021, 9 a.m.-5 p.m., EST. For agenda details, see SUPPLEMENTARY INFORMATION.

ADDRESSES: Meeting address: The meeting will be held via webinar. Please visit the Gulf Council website www.gulfcouncil.org for meeting materials and webinar registration information.

Council address: Gulf of Mexico Fishery Management Council, 4107 W Spruce Street, Suite 200, Tampa, FL 33607; telephone: (813) 348-1630.

FOR FURTHER INFORMATION CONTACT: Emily Muehlstein, Public Information Officer, Gulf of Mexico Fishery Management Council; emily.muehlstein@gulfcouncil.org, telephone: (813) 348-1630.

SUPPLEMENTARY INFORMATION: The following items are on the agenda, though agenda items may be addressed out of order (changes will be noted on the Council's website when possible).

Monday, November 15, 2021; 9 a.m.-5 p.m.

Introductions of members and staff, adoption of agenda, and approval of minutes from the October 15, 2020 meeting summary. Staff will give a presentation on the 2021 Communications Improvement Plan. Staff will give a presentation on the 2021 Communications analytics. The Committee will review Draft Social Media, Public Comment, and Press Release Guidelines/Standard Operating Policy and Procedures. The Committee will discuss re-naming the Council's Something's Fishy Tool. The Committee will hear an update on the Return `Em Right project and make recommendations on the future of Fishing for Our Future. The Committee will also discuss future communication topics and discuss the 2022 Council Communications Plan. The committee will discuss any Other Business items and take Public Comment before the meeting adjourns.

—Meeting Adjourns

The meeting will be broadcast via webinar only. You may register for the webinar by visiting www.gulfcouncil.org and clicking on the Council meeting on the calendar.

The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take action to address the emergency.

Authority: 16 U.S.C. 1801 et seq.

Dated: October 22, 2021.
Tracey L. Thompson,
Acting Deputy Director, Office of Sustainable Fisheries, National Marine Fisheries Service.

[FR Doc. 2021-23399 Filed 10-26-21; 8:45 am]

BILLING CODE 3510-22-P